DEPARTMENT OF ENERGY

Federal Energy Regulatory Commission

[Docket No. CP07-62-000; CP07-63-000; CP07-64-000; CP07-65-000]

AES Sparrows Point LNG, LLC; Mid-Atlantic Express, LLC; Notice of Meeting

July 28, 2008.

At the request of U.S. Representative Joe Pitts, representing the 16th Congressional District of Pennsylvania, staff of the Federal Energy Regulatory Commission will attend a meeting sponsored and moderated by the Congressman to discuss constituents' concerns about the proposed Sparrows Point LNG and Pipeline Project.¹

¹ For additional information about the Project, please contact the Commission's Office of External Affairs at (202) 502-8004.

The meeting will be held on August 12, 2008, beginning at 7p.m. (EDT) at: Octorara High School Auditorium, 226 Highland Road, Atglen, PA 19310.

Please contact Congressman Pitts' district office at 610-444-4581 with any questions regarding this meeting.

Kimberly D. Bose,
Secretary.

[FR Doc. E8-17879 Filed 8-4-08; 8:45 am]

BILLING CODE 6717-01-P